DEPARTMENT OF JUSTICE

Notice of Lodging of Consent Decree Under the Clean Air Act

Notice is hereby given that on September 1, 2006, a proposed Consent Decree (“Decree”) in United States v. Ford Motor Company, Civil Action No. 4:06-1311 was lodged with the United States District Court for the Eastern District of Missouri.

In this action the United States sought civil penalties and injunctive relief for alleged violations of the industrial refrigerant repair, testing, record-keeping, and reporting regulations at 40 CFR part 82, subpart F, 82.150-82.166, (“Recycling and Emission Reduction”), promulgated pursuant to Subchapter VI of the Clean Air Act (“Stratospheric Ozone Protection”), 42 U.S.C. 7671-7671q. The alleged violations relate to one industrial process refrigeration appliance, which leaked chlorofluorocarbons, at Defendant's assembly plant located in Hazelwood, Missouri.

The Department of Justice will receive for a period of thirty (30) days from the date of this publication comments relating to the Decree. Comments should be addressed to the Assistant Attorney General, Environment and Natural Resources Division, P.O. Box 7611, U.S. Department of Justice, Washington, DC 20044-7611, and should refer to United States v. Ford Motor Company, D.J. Ref. 90-5-2-1-08127.

The Decree may be examined at the Office of the United States Attorney, Eastern District of Missouri, 111 South Tenth Street, Room 20.333, St. Louis, Missouri 63102, and at U.S. EPA Region VII 901 North Fifth Street, Kansas City, Kansas 66101. During the public comment period, the Decree, may also be examined on the following Department of Justice Web site, to http://www.usdoj.gov/enrd/Consent_Decrees.html. A copy of the Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $5.50 (25 cents per page reproduction cost) payable to the U.S. Treasury or, if by e-mail or fax, forward a check in that amount to the Consent Decree Library at the stated address.

Robert R. Maher, Jr.,
Assistant Chief, Environmental Enforcement Section, Environment and Natural Resources Division.

[FR Doc. 06-8296 Filed 9-26-06; 8:45 am]

BILLING CODE 4410-15-M